ENVIRONMENTAL PROTECTION AGENCY

40 CFR Parts 239 and 258

[FRL-7940-9]

Adequacy of Indiana Municipal Solid Waste Landfill Program

AGENCY: Environmental Protection Agency (EPA).

ACTION: Proposed rule.

SUMMARY: The Environmental Protection Agency (EPA) Region 5 is proposing to approve a modification to Indiana's approved municipal solid waste landfill (MSWLF) permit program. The modification allows the State to issue research, development and demonstration (RD&D) permits to owners and operators of MSWLF units in accordance with its state law.

DATES: All Comments on Indiana's application for approval of its research, development and demonstration permit modification must be received by U.S. EPA Region 5 by the close of business on August 25, 2005.

ADDRESSES: Written comments should be sent to Susan Mooney, Waste Management Branch (Mail code: DW-8J), U.S. EPA Region 5, 77 West Jackson Boulevard, Chicago, IL 60604, telephone: 312/886-3585. Comments may also be submitted electronically to: mooney.susan@epa.gov or by facsimile at (312) 353-4788. You may examine copies of the relevant portions of Indiana's regulations during normal business hours at EPA Region 5.

FOR FURTHER INFORMATION CONTACT: Susan Mooney, Waste Management Branch (Mail code: DW-8J), U.S. EPA Region 5, 77 West Jackson Boulevard, Chicago, IL 60604, telephone: 312/886-3585, email: mooney.susan@epa.gov.

SUPPLEMENTARY INFORMATION:

A. Background

On March 22, 2004, EPA issued a final rule amending the municipal solid waste landfill criteria in 40 CFR part 258 to allow for research, development and demonstration (RD&D) permits. (69 FR 13242). This rule allows for variances from specified criteria for a limited period of time, to be implemented through state-issued RD&D permits. RD&D permits are only available in states with approved MSWLF permit programs which have been modified to incorporate RD&D permit authority. While States are not required to seek approval for this new provision, those States that are interested in providing RD&D permits to owners and operators of MSWLFs must seek approval from EPA before issuing such permits. Approval procedures for new provisions of 40 CFR Part 258 are outlined in 40 CFR 239.12.

Indiana's MSWLF permit program was approved on October 8, 1996 (61 FR 52791). On May 11, 2005, Indiana applied for approval of its RD&D permit provisions. Indiana submitted its rules under 329 IAC 10-11-6.5 for review.

B. Decision

After a thorough review, EPA Region 5 is proposing that Indiana's RD&D permit provisions as defined under Indiana rule 329 IAC 10-11-6.5 are adequate to ensure compliance with the Federal criteria as defined at 40 CFR 258.4.

C. Statutory and Executive Order Reviews

This action proposes to approve state solid waste requirements pursuant to RCRA Section 4005 and imposes no federal requirements. Therefore, this proposed rule complies with applicable executive orders and statutory provisions as follows: 1. Executive Order 12866: Regulatory Planning Review—The Office of Management and Budget has exempted this proposed action from its review under Executive Order (EO) 12866; 2. Paperwork Reduction Act—This proposed action does not impose an information collection burden under the Paperwork Reduction Act; 3. Regulatory Flexibility Act—After considering the economic impacts of today's proposed action on small entities under the Regulatory Flexibility Act, I certify that this proposed action would not have a significant economic impact on a substantial number of small entities; 4. Unfunded Mandates Reform Act—Because this action proposes to approve pre-existing requirements under state law and does not impose any additional enforceable duty beyond that required by state law, this action does not contain any unfunded mandate, or significantly or uniquely affect small governments, as described in the Unfunded Mandates Act; 5. Executive Order 13132: Federalism—EO 13132 does not apply to this proposed action because this proposed action will not have federalism implications (i.e., there are no substantial direct effects on states, on the relationship between the national government and states, or on the distribution of power and responsibilities between federal and state governments); 6. Executive Order 13175: Consultation and Coordination with Indian Tribal Governments—EO 13175 does not apply to this proposed action because it will not have tribal implications (i.e., there are no substantial direct effects on one or more Indian tribes, on the relationship between the federal government and Indian tribes, or on the distribution of power and responsibilities between the federal government and Indian tribes). 7. Executive Order 13045: Protection of Children from Environmental Health & Safety Risks—This proposed action is not subject to EO 13045 because it is not economically significant and is not based on health or safety risks; 8. Executive Order 13211: Actions that Significantly Affect Energy Supply, Distribution, or Use—This proposed action is not subject to EO 13211 because it is not a significant regulatory action as defined in EO 12866; 9. National Technology Transfer Advancement Act—This provision directs EPA to use voluntary consensus standards in its regulatory activities unless to do so would be inconsistent with applicable law or otherwise impractical. Voluntary consensus standards are technical standards (e.g., materials specifications, test methods, sampling procedures, and business practices) that are developed or adopted by voluntary consensus standards bodies. This proposed action does not involve technical standards. Therefore, EPA did not consider the use of any voluntary consensus standards.

List of Subjects

40 CFR Part 239

Environmental protection, Administrative practice and procedure, Intergovernmental relations, Waste treatment and disposal.

40 CFR Part 258

Reporting and recordkeeping requirements, Waste treatment disposal, Water pollution control.

Authority: This action is issued under the authority of section 2002, 4005 and 4010(c) of the Solid Waste Disposal Act, as amended, 42 U.S.C. 6912, 6945 and 6949(a).

Dated: July 7, 2005.
Norman Niedergang,
Acting Regional Administrator, U.S. EPA, Region 5.

[FR Doc. 05-14734 Filed 7-25-05; 8:45 am]

BILLING CODE 6560-50-P